DEPARTMENT OF HOUSING AND URBAN DEVELOPMENT

[Docket No. FR-5838-N-06]

60-Day Notice of Proposed Information Collection: Housing Choice Voucher Program

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 20, 2015.

ADDRESSES: Interested persons are invited to submit comments regarding this proposal. Comments should refer to the proposal by name and/or OMB Control Number and should be sent to: Colette Pollard, Reports Management Officer, ODAM, Department of Housing and Urban Development, 451 7th Street SW., Room 4176, Washington, DC 20410-5000; telephone 202-402-0306 (this is not a toll-free number) or email at Colette.Pollard@hud.gov for a copy of the proposed forms or other available information. Persons with hearing or speech impairments may access this number through TTY by calling the toll-free Federal Relay Service at (800) 877-8339.

FOR FURTHER INFORMATION CONTACT: Arlette Mussington, Office of Policy, Programs and Legislative Initiatives, PIH, Department of Housing and Urban Development, 451 7th Street SW., (L'Enfant Plaza, Room 2206), Washington, DC 20410; telephone 202-402-4109, (this is not a toll-free number).

SUPPLEMENTARY INFORMATION: This notice informs the public that HUD is seeking approval from OMB for the information collection described in section A.

A. Overview of Information Collection

Title of Information Collection: Housing Choice Voucher (HCV) Program.

OMB Approval Number: 2577-0169.

Type of Request: Revision of currently approved collection with changes that include portability paperwork and inclusion of the information or briefing packet.

Form Numbers: HUD-52515, HUD-52667, HUD-52580, HUD-52580-A, HUD-52517, HUD-52646, HUD-52665, HUD-52641, HUD-52641-A, HUD 52642, HUD 52649, HUD 52531A and B, HUD 52530A, HUD 52530B, HUD 52530C, HUD 52578B.

Description of the need for the information and proposed use: Public Housing Agencies (PHA) will prepare an application for funding which specifies the number of units requested, as well as the PHA's objectives and plans for administering the HCV program. The application is reviewed by HUD Headquarters and HUD Field Offices and ranked according to the PHA's administrative capability, the need for housing assistance, and other factors specified in a notice of funding availability. The PHAs must establish a utility allowance schedule for all utilities and other services. Units must be inspected using HUD-prescribed forms to determine if the units meet the housing quality standards (HQS) of the HCV program. After the family is issued a HCV to search for a unit pursuant to attending a briefing and receiving an information packet, the family must complete and submit to the PHA a Request for Tenancy Approval when it finds a unit which is suitable for its needs. Initial PHAs will use a standardized form to submit portability information to the receiving PHA who will also use the form for monthly portability billing. PHAs and owners will enter into housing assistance payments (HAP) contract each providing information on rents, payments, certifications, notifications, and owner agreement in a form acceptable to the PHA. A tenancy addendum is included in the HAP contract as well as incorporated in the lease between the owner and the family. Families that participate in the Homeownership option will execute a statement regarding their responsibilities and execute contracts of sale including an additional contract of sale for new construction units. PHAs participating in the project-based voucher (PBV) program will enter into Agreements with developing owners, HAP contracts with the existing and New Construction/Rehabilitation owners, Statement of Family Responsibility with the family and a lease addendum will be provided for execution between the family and the owner.

Respondents (i.e. affected public): State and Local Governments, businesses or other non-profits.

Total Estimated Burdens:

Description | Number of respondents | Responses per respondent | Total annual responses | Hours per response | Total hours | Regulatory reference
Application (HUD -52515) | 1,000 | 1 | 1,000 | 1 | 1,000 | 982.103
Application for Federal Assistance (SF-424) | 1,000 | 1 | 1,000 | 0.75 | 750 | 982.103
Applicant/Recipient Disclosure/Update Report (HUD-2880) | 1,000 | 1 | 1,000 | 0 | 0 | 982.103
Acknowledgement of Application Receipt (HUD-2993) | 1,000 | 1 | 1,000 | 0 | 0 | 982.103
Third Party Documentation Facsimile Transmittal (HUD-96011) | 500 | 1 | 500 | 0 | 0 | 982.103
Certification of Consistency with the Consolidated Plan (HUD-2991) | 1,000 | 1 | 1,000 | 0 | 0 | 982.103
Disclosure of Lobbying Activities (SF-LLL) | 500 | 1 | 500 | 0.17 | 85 | 982.103
Tenant-Furnished Utilities (HUD-52667) | 2,224 | 1 | 2,224 | 1.5 | 3,336 | 982.517
Inspection Forms (HUD-52580 and 52580-A) | 2,224 | 955 | 2,123,920 | 0.5 | 1,061,960 | 982.401
Request for Tenancy Approval (HUD-52517) | 2,224 | 90 | 200,160 | 0.5 | 100,080 | 982.302
Notice of Unit Approval/Denial | 2,224 | 90 | 200,160 | 0.5 | 100,080 | 982.303(c)
Voucher (HUD-52646) | 2,224 | 90 | 200,160 | 0.05 | 10,008 | 982.305
Information Packet | 2,224 | 60 | 133,440 | 1 | 133,440 | 982.301(b)
PHA Information to Owner | 2,224 | 40 | 88,960 | 0.05 | 4,448 | 982.307
Portability Information (HUD-52665) | 2,224 | 90 | 200,160 | 0.5 | 100,080 | 982.355
PHA Notification to Field Office Insufficient Funds | 400 | 1 | 400 | 0.5 | 200 | 982.354(e)
HAP Contracts (HUD-52641, 52641-A, 52642, 52642) | 2,224 | 65 | 144,560 | 0.5 | 72,280 | 982.451
Statement of Homeowner Obligation (HUD-52649) | 150 | 10 | 1,500 | 0.25 | 375 | 982.625
Homeownership: Required Contract of Sale Provisions | 1500 | 1 | 1,500 | 0.25 | 375 | 982.631(c)(2)
PHA PBV Public Notice | 50 | 1 | 50 | 3 | 150 | 983.51(c)
PHA PBV Notice of Owner Selection | 50 | 1 | 50 | 0.5 | 25 | 983.51(c)
PBV Agreement to enter into a HAP Contract (HUD-52531A and B) | 50 | 1 | 50 | 0.5 | 25 | 983.51(c)
PBV NC/SR HAP Contract (HUD-52530A) | 50 | 1 | 50 | 0.25 | 12.5 | 983.152
PBV Existing HAP Contract (HUD-52530B) | 50 | 1 | 50 | 0.25 | 12.5 | 983.202
PBV Tenancy Addendum (HUD-52530C) | 50 | 1 | 10 | 0.25 | 2.5 | 983.202
PBV Statement of Family Responsibilities (HUD-52578B) | 50 | 10 | 500 | 0.25 | 125 | 983.256(b)(3)
Notice of Intent to Project-Base Vouchers | 218 | 1 | 218 | 0.5 | 109 | 983.6(d)
Request for HUD Approval to Terminate PBV HAP Contract | 15 | 1 | 15 | 1 | 15 | 983.205(d)
Owner Notice to Terminate PBV HAP Contract | 20 | 30 | 600 | 0.25 | 150 | 983.206(b)
Totals | * 2,224 |  | 3,304,737 |  | 1,589,124 |

Information collection | Number of respondents | Frequency of response | Responses per annum | Burden hour per response | Annual burden hours | Hourly cost per response | Annual cost
| 2,224 | Varies | 3,304,737 | .48 | 1,589,124 | $20 | $31,782,480
Total | 2,224 | Varies | 3,304,737 | .48 | 1,589,124 | 20 | 31,782,480

B. Solicitation of Public Comment

This notice is soliciting comments from members of the public and affected parties concerning the collection of information described in section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. chapter 35.

Dated: September 14, 2015.
Merrie Nichols-Dixon,
Deputy Director, Office of Policy, Programs and Legislative Initiatives.

[FR Doc. 2015-23484 Filed 9-18-15; 8:45 am]

BILLING CODE 4210-67-P